ENVIRONMENTAL PROTECTION AGENCY

[ER-FRL-9023-2]

Environmental Impact Statements; Notice of Availability

Responsible Agency: Office of Federal Activities, General Information (202) 564-7146 or http://www2.epa.gov/nepa

Weekly receipt of Environmental Impact Statements (EISs)

Filed 09/14/2015 Through 09/18/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150275, Final, USA, VA, Fort Belvoir Short-Term Projects and Real Property Master Plan Update, Review Period Ends: 11/02/2015, Contact: Felix M. Mariani 703-806-3193

EIS No. 20150276, Final Supplement, NRCS, MS, Long Beach Watershed, Review Period Ends: 11/09/2015, Contact: Kurt Readus 601-965-5205

EIS No. 20150277, Draft, USFS, WA, LeClerc Creek Grazing Allotment Management Planning, Comment Period Ends: 11/16/2015, Contact: Gayne Sears 509-447-7300

EIS No. 20150278, Second Draft, USACE, GA, Update of the Water Control Manual for the Apalachicola-Chattahoochee-Flint River Basin in Alabama, Florida, and Georgia and Water Supply Storage Assessment, Comment Period Ends: 11/16/2015, Contact: Lewis C. Sumner 251-694-3857

EIS No. 20150279, Draft, FTA, CA, Geary Corridor Bus Rapid Transit Project, Comment Period Ends: 11/16/2015, Contact: Alex Smith 415-744-2599

EIS No. 20150280, Final, FTA, WA, Link Light Rail Operations and Maintenance Facility, Review Period Ends: 11/02/2015, Contact: James Saxton 206-220-7954

EIS No. 20150281, Final, USN, WA, Northwest Training and Testing, Review Period Ends: 11/02/2015, Contact: John Mosher 360-257-3234

EIS No. 20150282, Final, USACE, CA, Los Angeles River Ecosystem Restoration, Review Period Ends: 11/02/2015, Contact: Eileen Takata 213-300-5712

Dated: September 28, 2015.
Karin Leff,
Acting Director, NEPA Compliance Division, Office of Federal Activities.

[FR Doc. 2015-24908 Filed 10-1-15; 8:45 am]

BILLING CODE 6560-50-P